DEPARTMENT OF TRANSPORTATION

Federal Aviation Administration

14 CFR Part 39

[Docket No. 2002-NM-262-AD]

RIN 2120-AA64

Airworthiness Directives; Construcciones Aeronauticas, S.A. (CASA), Model C-212 Series Airplanes

AGENCY: Federal Aviation Administration, DOT.

ACTION: Notice of proposed rulemaking (NPRM).

SUMMARY: This document proposes the adoption of a new airworthiness directive (AD) that is applicable to all CASA Model C-212 series airplanes. This proposal would require rework of the nose landing gear (NLG); modification of the hydraulic steering system; a test of the cable tension for the nosewheel steering system when abnormal vibration occurs, and adjustment of the cable tension, if necessary; and a revision to the Limitations section of the airplane flight manual to include certain procedures to be performed during the takeoff run. This action is necessary to prevent failure of the auxiliary landing gear direction system, which could result in abnormal vibrations during takeoff and landing runs, and consequent reduced controllability of the airplane. This action is intended to address the identified unsafe condition.

DATES: Comments must be received by March 8, 2004.

ADDRESSES: Submit comments in triplicate to the Federal Aviation Administration (FAA), Transport Airplane Directorate, ANM-114, Attention: Rules Docket No. 2002-NM-262-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-262-AD” in the subject line and need not be submitted in triplicate. Comments sent via the Internet as attached electronic files must be formatted in Microsoft Word 97 or 2000 or ASCII text.

The service information referenced in the proposed rule may be obtained from Construcciones Aeronauticas, S.A., Getafe, Madrid, Spain. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-262-AD.” The postcard will be date stamped and returned to the commenter.

Availability of NPRMs

Any person may obtain a copy of this NPRM by submitting a request to the FAA, Transport Airplane Directorate, ANM-114, Attention: Rules Docket No. 2002-NM-262-AD, 1601 Lind Avenue, SW., Renton, Washington 98055-4056.

Discussion

The Dirección General de Aviación Civil (DGAC), which is the airworthiness authority for Spain, notified the FAA that an unsafe condition may exist on all CASA Model C-212 series airplanes. The DGAC advises that failures of the auxiliary landing gear direction system have been reported, which produced abnormal vibrations during takeoff and landing runs. The failure was caused by a gradual loss of hydraulic oil pressure in the selector direction valve, and by a loss of tension in the cable for the nosewheel steering system. This condition, if not corrected, could result in the failure of the auxiliary landing gear direction system, which could cause abnormal vibrations during takeoff and landing runs, and consequent reduced controllability of the airplane.

Explanation of Relevant Service Information

CASA has issued CASA Service Bulletin 212-32-21, Revision 2, dated November 10, 1987, which describes procedures for reworking the nose landing gear (NLG). The rework of the NLG includes replacing bushings and washers with new parts, if necessary; installing a new helicoil; re-identifying and re-installing the lower attachment fitting; installing a new lockwasher and nut; installing a new nut on the shock absorber assembly; removing any gear crown assembly that has broken teeth, dirt, corrosion, or uneven wear, and replacing it with a new or serviceable gear crown assembly; re-identifying and re-installing the ring nut of the shock absorber assembly; and installing a new actuator.

CASA has also issued EADS CASA Service Bulletin SB-212-32-22, Revision 2, dated July 28, 1997, which describes procedures for modifying the hydraulic steering system of the NLG. The modification of hydraulic steering system involves modifying the hydraulic installation and the nose fuselage; modifying the electrical installation and the center instrument panel, as applicable; and modifying the electrical system and overhead panel, as applicable. This service bulletin also contains procedures for testing the cable tension of the nosewheel steering system, and adjusting the tension, if necessary.

CASA has also issued EADS CASA COM 212-172, Revision 04, dated December 9, 2002; and CASA COM 212-173, Revision 3, dated February 22, 1995. These communications contain information and procedures related to maintenance, troubleshooting, overhaul, tests, and tolerances for landing gear units of the affected airplanes. The information in these documents has been consolidated from several different documents including service bulletins, maintenance manuals, technical orders, and the structural repair manual.

Accomplishment of the actions specified in the service bulletins and the COMs is intended to adequately address the identified unsafe condition. The DGAC classified these service bulletins and COMs as mandatory and issued Spanish airworthiness directive 01/02, dated April 17, 2002, to ensure the continued airworthiness of these airplanes in Spain.

FAA's Conclusions

This airplane model is manufactured in Spain and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below. The proposed AD would also require revising the Limitations section of the airplane flight manual to include certain procedures to be performed during the takeoff run.

Cost Impact

The FAA estimates that 27 airplanes of U.S. registry would be affected by this proposed AD, that it would take approximately 6 work hours per airplane to accomplish the proposed rework of the NLG; and that the average labor rate is $65 per work hour. Based on these figures, the cost impact of this proposed action on U.S. operators is estimated to be $10,530, or $390 per airplane.

We estimate that it would take approximately 92 work hours per airplane to accomplish the proposed modification of the hydraulic steering system. Based on these figures, the cost impact of this proposed action on U.S. operators is estimated to be $161,460, or $5,980 per airplane.

We estimate that it would take approximately 1 work hour per airplane to revise the Limitations section of the airplane flight manual. Based on these figures, the cost impact of this proposed action on U.S. operators is estimated to be $1,755, or $65 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Construcciones Aeronauticas, S.A. (CASA): Docket 2002-NM-262-AD.

Applicability: All Model C-212 series airplanes, certificated in any category.

Compliance: Required as indicated, unless accomplished previously.

To prevent failure of the auxiliary landing gear direction system, which could result in abnormal vibrations during takeoff and landing runs, and consequent reduced controllability of the airplane, accomplish the following:

Rework and Modification

(a) Within 6 months after the effective date of this AD, accomplish the actions in paragraphs (a)(1) and (a)(2) of this AD in accordance with the applicable service bulletin.

(1) Rework the nose landing gear (NLG) in accordance with the Accomplishment Instructions of CASA Service Bulletin SB212-32-21, Revision 2, dated November 10, 1987.

(2) Modify the hydraulic steering system of the NLG in accordance with the Instructions for Accomplishment of EADS CASA Service Bulletin SB-212-32-22, Revision 2, dated July 28, 1997.

Tension Test and Adjustment

(b) Within 600 flight hours after any abnormal vibration of the nosewheel steering system occurs, test the cable tension of the nosewheel steering system. Adjust the tension, if necessary. Accomplish these actions in accordance with EADS CASA COM 212-172, Revision 04, dated December 9, 2002; or CASA COM 212-173, Revision 3, dated February 22, 1995; as applicable.

Airplane Flight Manual Revision

(c) Within 6 months after the effective date of this AD, revise the Limitations Section of the FAA-approved Airplane Flight Manual (AFM) to include the following statement. This may be accomplished by inserting a copy of this AD in the AFM.

“Nose wheel malfunction during take-off run—Initiate or “perform” normal RTO procedures.”

Note 1: When a statement identical to that in paragraph (c) of this AD has been included in the general revisions of the AFM, the general revisions may be inserted into the AFM, and the copy of this AD may be removed from the AFM.

Parts Installation

(d) As of the effective date of this AD, no person may install on any airplane an NLG unless it has been reworked in accordance with paragraph (a)(1) of this AD.

Alternative Methods of Compliance

(e) In accordance with 14 CFR 39.19, the Manager, International Branch, ANM-116, FAA, Transport Airplane Directorate, is authorized to approve alternative methods of compliance for this AD.

Note 2: The subject of this AD is addressed in Spanish airworthiness directive 01/02, dated April 17, 2002.

Issued in Renton, Washington, on January 29, 2004.
Kalene C. Yanamura,
Acting Manager, Transport Airplane Directorate, Aircraft Certification Service.

[FR Doc. 04-2468 Filed 2-5-04; 8:45 am]

BILLING CODE 4910-13-P